NUCLEAR REGULATORY COMMISSION

10 CFR Chapter 1

[NRC-2023-0052]

Consideration of Current Operating Issues and Licensing Actions in License Renewal

AGENCY: Nuclear Regulatory Commission.

ACTION: Regulatory issue summary; issuance.

SUMMARY: The U.S. Nuclear Regulatory Commission (NRC) is issuing Revision 1 to Regulatory Issue Summary (RIS) 2014-06, “Consideration of Current Operating Issues and Licensing Actions in License Renewal.” Revision 1 to RIS 2014-06 provides information to the addressees on how the NRC considers current operating issues in the license renewal review under NRC regulations. This RIS is intended for all holders of operating licenses and combined licenses for nuclear power reactors, except those who have permanently ceased operations and have certified that fuel has been permanently removed from the reactor vessel. NRC regulations identify the technical information that must be submitted in a license renewal application to enable the NRC staff to make a determination that the license may be renewed. Pursuant to the regulations, an applicant is required to demonstrate that the effects of aging on the functionality of structures and components subject to an aging management review will be adequately managed; the consideration of recent operating experience is an important aspect of that demonstration. In addition, as required by NRC regulations, license renewal applicants need to update their applications with new information related to any current licensing basis changes during the NRC application review that could impact aging management of structures and components.

DATES: Revision 1 to RIS 2014-06 is available as of September 29, 2023.

ADDRESSES: Please refer to NRC-2023-0052 when contacting the NRC about the availability of information regarding this document. You may obtain publicly available information related to this document using any of the following methods:

• Federal Rulemaking Website: Go to https://www.regulations.gov and search for NRC-2023-0052. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• This RIS is also available on the NRC's public website at https://www.nrc.gov/reading-rm/doc-collections/gen-comm/reg-issues (select 2014, scroll to Document Number RIS-14-06, and select the date 08/21/2023).

FOR FURTHER INFORMATION CONTACT: Lauren Gibson, Office of Nuclear Reactor Regulation, U.S. Nuclear Regulatory Commission, Washington, DC 20555-0001, telephone: 301-415-1056, email: Lauren.Gibson@nrc.gov.

SUPPLEMENTARY INFORMATION: The NRC published a notice of opportunity for public comment on this RIS in the Federal Register on March 7, 2023 (88 FR 14091). The agency received comments from six commenters. The staff considered all comments, but no changes were made to the RIS. The NRC staff's evaluation of these comments is discussed in a publicly available memorandum which is available in ADAMS under Accession No ML23191A262.

RIS 2014-06, Revision 1, “Consideration of Current Operating Issues and Licensing Actions in License Renewal” is available in ADAMS under Accession No. ML23167A044.

As noted in the Federal Register on May 8, 2018 (83 FR 20858), this document (like other draft and final Regulatory Issue Summaries) is being published in the Rules section of the Federal Register to comply with publication requirements under 1 CFR chapter I.

Dated: September 26, 2023.
For the Nuclear Regulatory Commission.
Lisa M. Regner,
Chief, Generic Communication and Operating Experience Branch, Division of Reactor Oversight, Office of Nuclear Reactor Regulation.

[FR Doc. 2023-21426 Filed 9-28-23; 8:45 am]

BILLING CODE 7590-01-P